DEPARTMENT OF THE INTERIOR

Bureau of Land Management

Alaska Resource Advisory Council Meeting and Field Tour

AGENCY: Bureau of Land Management (BLM), Alaska State Office, Interior.

ACTION: Notice of meeting and field tour.

SUMMARY: The Bureau of Land Management's Alaska Resource Advisory Council will conduct a brief meeting at Prince William Sound Community College in Glennallen.

The purpose of the meeting is to provide a briefing for the council in preparation for a tour of BLM public lands along the Denali Highway. The meeting is open to the public. Members of the public may present brief oral comments to the council about BLM's management of the Denali Highway corridor during the meeting as time allows. Written comments will also be accepted.

The meeting will be followed by a two-day tour of the east portion of the Denali Highway corridor. The council will visit recreation areas, mining claims, off-highway vehicle trails, and cultural sites in the Tangle Lakes Archaeological District.

DATES: The meeting is July 28, 2002, 7-9 p.m. The field tour is July 29-30, 2002.

ADDRESSES: Inquiries or comments should be sent to BLM External Affairs, 222 W. 7th Avenue, #13, Anchorage, AK 99513-7599.

FOR FURTHER INFORMATION CONTACT: Teresa McPherson, (907) 271-3322 or e-mail Teresa_McPherson@ak.blm.gov.

SUPPLEMENTARY INFORMATION: The council provides advice and recommendations on resource and land management issues for 86 million acres of public lands administered by the BLM in Alaska. The council includes representatives from energy, tourism, and commercial recreation interests; conservation organizations; and elected officials, Alaska Native organizations, and the public at large.

Authority: The Alaska Resource Advisory Council meets in accordance with the Federal Land Policy and Management Act (FLPMA) and the Federal Advisory Committee Act of 1972.

Dated: May 29, 2002.
George P. Oviatt,
Acting State Director.

[FR Doc. 02-17638 Filed 7-11-02; 9:31 am]

BILLING CODE 4310-JA-P